DEPARTMENT OF ENERGY

Federal Energy Regulatory Commission

[Docket No. AC11-121-000]

Liberty Gas Storage, LLC; Notice of Filing

Take notice that on July 25, 2011, Liberty Gas Storage, LLC (Liberty) submitted a request for confirmation that it is not required to file FERC Form No. 2-A and will not be applicable until such time as the actual volume transactions on Liberty exceed 200,000 Dth for three consecutive calendar years. Liberty argues that given the low levels of total volume transactions on Liberty's pipeline system during the preceding three calendar years, Liberty does not meet the threshold for filing a Form 2-A. Liberty, in fact, has never met this threshold since it placed its initial facilities into service in 2007. Since the Form No. 3-Q filing requirement is applicable only when a natural gas company is obligated to file a Form 2-A, Liberty likewise believes that it is not required to file a Form No. 3-Q under present circumstances. Liberty requests the issuance of an order or other determination on this request for confirmation by September 1, 2011, which is the requested effective date for new, cost-based rates on Liberty's system.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: August 29, 2011.

Dated: July 29, 2011.
Nathaniel J. Davis, Sr.,
Deputy Secretary.

[FR Doc. 2011-20043 Filed 8-8-11; 8:45 am]

BILLING CODE 6717-01-P